DEPARTMENT OF THE INTERIOR

Fish and Wildlife Service

50 CFR Part 17

[Docket No. FWS-R9-2009-0075; MO-9221050083-B2]

Endangered and Threatened Wildlife and Plants; Review of Native Species That Are Candidates for Listing as Endangered or Threatened; Annual Notice of Findings on Resubmitted Petitions; Annual Description of Progress on Listing Actions; Correction

AGENCY: Fish and Wildlife Service, Interior.

ACTION: Notice of review; correction.

SUMMARY: This document corrects language used to describe the candidate status of the Sierra Nevada Distinct Population Segment of Rana muscosa, in a notice published in the Federal Register on November 9, 2009, regarding the review of species that are candidates for listing under the Endangered Species Act, as amended. The correction is to clarify that the Sierra Nevada Distinct Population Segment of Rana muscosa, as defined in the January 16, 2003 Federal Register, remains the candidate for listing.

DATES: This correction is effective February 24, 2010.

FOR FURTHER INFORMATION CONTACT: Jim Serfis, Chief, Branch of Candidate Conservation, U.S. Fish and Wildlife Service, 4401 N. Fairfax Drive, Room 420, Arlington, VA 22203 (telephone 703-358-2171; facsimile 703-358-1735). Persons who use a telecommunications device for the deaf (TDD) may call the Federal Information Relay Service (FIRS) at 800-877-8339.

SUPPLEMENTARY INFORMATION:

Background

In a notice published in the Federal Register on November 9, 2009 (74 FR 57804), regarding the review of species that are candidates for listing under the Endangered Species Act of 1973, as amended (16 U.S.C. 1531 et seq.), we included a discussion of the Sierra Nevada Distinct Population Segment (DPS) of the mountain yellow-legged frog. In that discussion, we included language addressing some recent taxonomic work. That language did not accurately convey our intent that the entity that we consider to be a candidate had not changed despite the recent taxonomic studies. The language we used created confusion rather than clarifying this issue. Thus, we are replacing two sentences from the discussion with new language as described below.

Correction

In the notice of review (74 FR 57804; November 9, 2009), we correct page 57830, under the section entitled Amphibians, in the discussion of “Mountain yellow-legged frog, Sierra Nevada DPS (Rana muscosa),” by removing the two sentences, “It is the population of R. muscosa found in the southern portion of the Sierra Nevada that is a candidate for listing. R. sierrae is not a candidate,” and replacing them with the following sentence “At this time, we have not adopted this taxonomic distinction of two species and continue to recognize mountain yellow-legged frogs in the Sierra Nevada Mountains of California as R. muscosa and as the candidate entity.”

Dated: February 3, 2010.
Daniel W. Ashe,
Acting Director, Fish and Wildlife Service.

[FR Doc. 2010-3691 Filed 2-23-10; 8:45 am]

BILLING CODE 4310-55-P